ENVIRONMENTAL PROTECTION AGENCY

40 CFR Part 52

[Region 2 Docket No. NJ61-260, FRL-7644-4]

Approval and Promulgation of Implementation Plans; Reasonably Available Control Technology for Oxides of Nitrogen for a Specific Source in the State of New Jersey

AGENCY: Environmental Protection Agency (EPA).

ACTION: Proposed rule.

SUMMARY: The Environmental Protection Agency is proposing to conditionally approve a revision to the State Implementation Plan (SIP) for ozone submitted by the State of New Jersey. This SIP revision consists of a source-specific reasonably available control technology (RACT) determination for controlling oxides of nitrogen from the sodium nitrite manufacturing plant operated by Repauno Products, LLC. This action proposes a conditional approval of the source-specific RACT determination that was made by New Jersey in accordance with provisions of its regulation to help meet the national ambient air quality standard for ozone. The intended effect of this proposed rule is to conditionally approve source-specific emission limitations required by the Clean Air Act.

DATES: Written comments must be received on or before May 7, 2004.

ADDRESSES: Comments may be submitted by mail to Raymond Werner, Chief, Air Programs Branch, Environmental Protection Agency, Region II Office, 290 Broadway, 25th Floor, New York, New York 10007-1866. Comments may also be submitted electronically, or through hand delivery/courier. Please follow the detailed instructions described in the “General Information” section of the SUPPLEMENTARY INFORMATION section.

FOR FURTHER INFORMATION CONTACT: Richard Ruvo, Air Programs Branch, Environmental Protection Agency Region II, 290 Broadway, 25th Floor, New York, New York 10007-1866, (212) 637-4014, Ruvo.Richard@epa.gov.

SUPPLEMENTARY INFORMATION:

Overview

The Environmental Protection Agency (EPA) is proposing to conditionally approve the New Jersey State Department of Environmental Protection's (New Jersey's) source-specific reasonably available control technology (RACT) determination for controlling oxides of nitrogen (NOX) from the sodium nitrite manufacturing plant operated by Repauno Products, LLC (Repauno).

The following table of contents describes the format for this SUPPLEMENTARY INFORMATION section:

EPA's Proposed Action

What Action Is EPA Proposing Today?

Why Is EPA Proposing This Action?

What Are EPA's Proposed Conditions For Approval?

How Can New Jersey Get Full Approval for This SIP Revision?

What Are the Clean Air Act Requirements for NOX RACT?

What Is EPA's Evaluation of New Jersey's SIP Revision?

New Jersey's SIP Revision

What are New Jersey's NOX RACT Requirements?

What are New Jersey's Facility-Specific NOX RACT Requirements?

When Was New Jersey's RACT Determination Proposed and Adopted?

When Was New Jersey's SIP Revision Submitted to EPA?

General Information

How Can I Get Copies Of This Document and Other Related Information?

How and To Whom Do I Submit Comments?

How Should I Submit CBI To the Agency?

Conclusion

Statutory and Executive Order Reviews

EPA's Proposed Action

What Action Is EPA Proposing Today?

EPA is proposing a conditional approval of New Jersey's revision to the ozone State Implementation Plan (SIP) submitted to EPA on July 1, 1999, and supplemented on September 12, 2002, September 26, 2002, April 3, 2003, and May 8, 2003. This SIP revision relates to New Jersey's NOX RACT determination for Repauno's sodium nitrite manufacturing plant located in Gibbstown, Gloucester County.

Why Is EPA Proposing This Action?

EPA is proposing this action to:

• Give the public the opportunity to submit comments on EPA's proposed action, as discussed in the DATES and ADDRESSES sections.

• Fulfill New Jersey's and EPA's requirements under the Clean Air Act (the Act).

• Require that New Jersey's RACT determination consider recent developments in emission control technology.

• Require that New Jersey's RACT determination be federally-enforceable.

What Are EPA's Proposed Conditions for Approval?

EPA is proposing the following two conditions for approving New Jersey's source-specific SIP revision for Repauno's NOX RACT plan:

1. New Jersey and Repauno must reassess as part of the RACT analysis, the technical and economic feasibility of installing selective catalytic reduction (SCR) technology to control NOX emissions from Repauno's sodium nitrite manufacturing process. The economic feasibility should be in a format consistent with the “EPA Air Pollution Control Cost Manual,” January 2002 (EPA 452/B-02-001), http://www.epa.gov/ttn/catc/products.html; and,

2. New Jersey and Repauno must provide recent continuous emissions monitoring (CEM) data from the last two years, or any other two years since the 1999 State-approval of Repauno's RACT analysis which are determined to be more representative of normal source operation.

These areas of New Jersey's SIP revision and Repauno's NOX RACT plan did not fully satisfy New Jersey's NOX RACT regulations and EPA's NOX RACT guidance and SIP revision requirements. A Technical Support Document (TSD), prepared in support of this proposed action, contains a detailed description of EPA's conditions for approval, as well as a detailed description of New Jersey's submittal and EPA's evaluation. A copy of the TSD is available upon request from the EPA Regional Office listed in the ADDRESSES section.

How Can New Jersey Get Full Approval for This SIP Revision?

EPA is proposing conditional approval of New Jersey's SIP revision, provided New Jersey commits in writing, on or before May 7, 2004, to correct the deficiencies discussed in the “What Are EPA's Proposed Conditions for Approval?” section. New Jersey must then correct the deficiencies and submit them to EPA within one year of EPA's final action on this SIP revision.

If New Jersey submits a commitment to comply with EPA's conditions, EPA will publish a final conditional approval of New Jersey's SIP revision. EPA will consider all information submitted prior to any final rulemaking action as a supplement or amendment to the July 1, 1999, submittal. If New Jersey does not make the required commitment to EPA, EPA is proposing to disapprove the SIP revision.

What Are the Clean Air Act Requirements for NOX RACT?

The Act requires certain states to develop RACT regulations for major stationary sources of NOX and to provide for the implementation of the required measures as soon as practicable but no later than May 31, 1995. Under the Act, the definition of major stationary source is based on the tons per year (tpy) of air pollution a source emits and the quality of the air in the area of the source. In ozone transport regions, attainment/unclassified areas as well as marginal and moderate ozone nonattainment areas, a major stationary source for NOX is considered to be one which emits or has the potential to emit 100 tpy or more of NOX and is subject to the requirements of a moderate nonattainment area. New Jersey is within the Northeast ozone transport region, established by section 184(a) of the Act, and has defined a major stationary source for NOX as a source which has the potential to emit 25 tpy, the level set for severe ozone nonattainment areas. Consequently, all major stationary sources of NOX within the State of New Jersey are required to implement RACT no later than May 31, 1995. For detailed information on the Act requirements for NOX RACT see the TSD prepared for today's proposal.

What Is EPA's Evaluation of New Jersey's SIP Revision?

EPA has determined New Jersey's SIP revision for New Jersey's NOX RACT determination for Repauno's sodium nitrite manufacturing plant is consistent with New Jersey's NOX RACT regulation and EPA's guidance, except for the deficiencies discussed in the “What Are EPA's Proposed Conditions for Approval?” section.

EPA's basis for evaluating New Jersey's SIP revision, is whether it meets the SIP requirements described in section 110 of the Act. EPA thinks that New Jersey's SIP revision will not interfere with any applicable requirement concerning attainment and reasonable further progress, or any other applicable requirement of the Act, once New Jersey addresses the conditions for approval.

After reviewing New Jersey's SIP revision submittals, EPA found them all administratively and technically complete. EPA has determined that, provided New Jersey agrees to EPA's commitment request, until such time that New Jersey complies with all of EPA's conditions for approval and submits them to EPA as a SIP revision, the NOX emission limits identified in New Jersey's Conditions of Approval document represents RACT for Repauno's sodium nitrite manufacturing process. The conditions contained in the Conditions Of Approval Document currently specify emission limits, work practice standards, and testing, monitoring, and record keeping/reporting requirements. These conditions are consistent with the NOX RACT requirements specified in Subchapter 19 and conform to EPA NOX RACT guidance. More specifically, EPA proposes to conditionally approve the current Conditions of Approval document which includes a source-specific emission limitation of 207 pounds of NOX per hour for the unit, based on improved absorption and process control. Please note there may be other requirements, such as adequate monitoring, which States and sources will need to provide for, through the Title V permitting process.

New Jersey's SIP Revision

What are New Jersey's NOX RACT Requirements?

On November 15, 1993, New Jersey submitted to EPA, as a revision to the SIP, subchapter 19 of chapter 27, title 7 of the New Jersey Administrative Code. Subchapter 19 is entitled “Control and Prohibition of Air Pollution From Oxides of Nitrogen.” This subchapter provides the NOX RACT requirements for New Jersey and was effective on December 20, 1993. New Jersey submitted subchapter 19 to EPA, as a revision to the SIP, on November 15, 1993, and on January 27, 1997, the EPA final approval action on subchapter 19 was published in the Federal Register (62 FR 3804).

On March 24, 1995, New Jersey adopted amendments to subchapter 19 and submitted them to EPA for approval as a SIP revision on June 21, 1996. On March 29, 1999, the EPA final approval action on the revised subchapter 19 was published in the Federal Register (64 FR 14832).

What Are New Jersey's Facility-Specific NOX RACT Requirements?

Section 19.13 of New Jersey's regulation establishes a procedure for a case-by-case determination of what represents RACT for a particular major facility, item of equipment or source operation. This procedure applies to facilities considered major for NOX which are in one of the following two situations: (1) Except for non-utility boilers, if the NOX facility contains any source operation or item of equipment of a category not listed in section 19.2 which has the potential to emit more than 10 tons of NOX per year, or (2) if the owner or operator of a source operation or item of equipment of a category listed in section 19.2 seeks approval of an alternative maximum allowable emission rate. Today's proposal relates to a facility in the first type of situation discussed above.

New Jersey's procedure requires either submission of a NOX control plan if specific emission limitations do not apply to the specific source, or submission of a request for an alternative maximum allowable emission rate if specific emission limitations do apply to the specific source. In either case, the owners/operators must include a technical and economic feasibility analysis of the possible alternative control measures. Also, in either case, subchapter 19 requires that New Jersey establish emission limits which rely on a RACT determination specific to the facility. The resulting NOX control plan or alternate maximum allowable emission rate must be submitted to EPA for approval as a SIP revision.

When Was New Jersey's RACT Determination Proposed and Adopted?

New Jersey's RACT determination was first proposed on February 15, 1995, with a public comment period ending March 15, 1995. New Jersey adopted the RACT determination on February 15, 1996. New Jersey modified Repauno's RACT determination several other times, after other public notices and public comment periods. New Jersey adopted the last RACT determination on July 1, 1999.

When Was New Jersey's SIP Revision Submitted to EPA?

New Jersey's SIP revision was modified several times between 1995 and 1999. New Jersey submitted SIP revisions to EPA on June 18, 1996, January 21, 1998, and July 1, 1999. EPA determined each submittal administratively and technically complete. Today's proposal is based on the July 1, 1999, SIP revision, as supplemented on September 12, 2002, September 26, 2002, April 3, 2003, and May 8, 2003.

General Information

How Can I Get Copies of This Document and Other Related Information?

The Regional Office has established an official public rulemaking file available for inspection at the Regional Office. EPA has established an official public rulemaking file for this action under Region 2 Docket Number NJ61-260. The official public file consists of the documents specifically referenced in this action, any public comments received, and other information related to this action. Although a part of the official docket, the public rulemaking file does not include Confidential Business Information (CBI) or other information whose disclosure is restricted by statute. The official public rulemaking file is the collection of materials that is available for public viewing at the Environmental Protection Agency, Region II Office, Air Programs Branch, 290 Broadway, New York, New York 10007-1866. EPA requests that if at all possible, you contact the contact listed in the FOR FURTHER INFORMATION CONTACT section to schedule your inspection. The Regional Office's official hours of business are Monday through Friday, 8:30 to 4:30 excluding Federal holidays.

Copies of the State submittal and EPA's technical support document are also available for public inspection during normal business hours, by appointment at the State Air Agency: New Jersey Department of Environmental Protection, Office of Air Quality Management, Bureau of Air Pollution Control, 401 East State Street, CN027, Trenton, New Jersey 08625.

Electronic Access. You may access this Federal Register document electronically through the Regulations.gov Web site located at http://www.regulations.gov where you can find, review, and submit comments on Federal rules that have been published in the Federal Register, the Government's legal newspaper, and are open for comment.

For public commenters, it is important to note that EPA's policy is that public comments, whether submitted electronically or in paper, will be made available for public viewing at the EPA Regional Office, as EPA receives them and without change, unless the comment contains copyrighted material, CBI, or other information whose disclosure is restricted by statute. When EPA identifies a comment containing copyrighted material, EPA will provide a reference to that material in the version of the comment that is placed in the official public rulemaking file. The entire printed comment, including the copyrighted material, will be available at the Regional Office for public inspection.

How and to Whom Do I Submit Comments?

You may submit comments electronically, by mail, or through hand delivery/courier. To ensure proper receipt by EPA, identify the appropriate rulemaking identification number by including the text “Public comment on proposed rulemaking [Region 2 Docket Number NJ61-260]” in the subject line on the first page of your comment. Please ensure that your comments are submitted within the specified comment period. Comments received after the close of the comment period will be marked “late.” EPA is not required to consider these late comments.

Electronically. If you submit an electronic comment as prescribed below, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket. If EPA cannot read your comment due to technical difficulties and cannot contact you for clarification, EPA may not be able to consider your comment.

E-mail. Comments may be sent by electronic mail (e-mail) to Werner.Raymond@epa.gov; please include the text “Public comment on proposed rulemaking [Region 2 Docket Number NJ61-260]” in the subject line. EPA's e-mail system is not an “anonymous access” system. If you send an e-mail comment directly without going through Regulations.gov, EPA's e-mail system automatically captures your e-mail address. E-mail addresses that are automatically captured by EPA's e-mail system are included as part of the comment that is placed in the official public docket.

Regulations.gov. Your use of Regulations.gov is an alternative method of submitting electronic comments to EPA. Go directly to Regulations.gov at http://www.regulations.gov, then click on the button “TO SEARCH FOR REGULATIONS CLICK HERE”, and select Environmental Protection Agency as the Agency name to search on. The list of current EPA actions available for comment will be listed. Please follow the online instructions for submitting comments. The system is an “anonymous access” system, which means EPA will not know your identity, e-mail address, or other contact information unless you provide it in the body of your comment.

Disk or CD ROM. You may submit comments on a disk or CD ROM that you mail to the mailing address identified below. These electronic submissions will be accepted in WordPerfect, Word or ASCII file format. Avoid the use of special characters and any form of encryption.

By Mail. Send your comments to: Raymond Werner, Chief, Air Programs Branch, Environmental Protection Agency, Region II Office, 290 Broadway, New York, New York 10007-1866. Please include the text “Public comment on proposed rulemaking [Region 2 Docket Number NJ61-260]” in the subject line on the first page of your comment.

By Hand Delivery or Courier. Deliver your comments to: Raymond Werner, Chief, Air Programs Branch, Environmental Protection Agency, Region II Office, 290 Broadway, New York, New York 10007-1866. Such deliveries are only accepted during the Regional Office's normal hours of operation. The Regional Office's official hours of business are Monday through Friday, 8:30 to 4:30 excluding Federal holidays.

How Should I Submit CBI to the Agency?

Do not submit information that you consider to be CBI electronically to EPA. You may claim information that you submit to EPA as CBI by marking any part or all of that information as CBI (if you submit CBI on disk or CD ROM, mark the outside of the disk or CD ROM as CBI and then identify electronically within the disk or CD ROM the specific information that is CBI). Information so marked will not be disclosed except in accordance with procedures set forth in 40 CFR part 2.

In addition to one complete version of the comment that includes any information claimed as CBI, a copy of the comment that does not contain the information claimed as CBI must be submitted for inclusion in the official public regional rulemaking file. If you submit the copy that does not contain CBI on disk or CD ROM, mark the outside of the disk or CD ROM clearly that it does not contain CBI. Information not marked as CBI will be included in the public file and available for public inspection without prior notice. If you have any questions about CBI or the procedures for claiming CBI, please consult the person identified in the FOR FURTHER INFORMATION CONTACT section.

Conclusion

EPA is proposing to conditionally approve the New Jersey SIP revision for a source-specific RACT determination for Repauno's sodium nitrite manufacturing plant. This SIP revision contains source-specific NOX emission limitations for Repauno. EPA is proposing conditional approval of New Jersey's SIP revision, provided New Jersey commits in writing, on or before May 7, 2004, to correct the deficiencies discussed in the “What Are EPA's Proposed Conditions for Approval?” section. New Jersey must then correct the deficiencies and submit them to EPA as a SIP revision within one year of EPA's final action on this SIP revision.

If New Jersey submits a commitment to this effect in writing, on or before May 7, 2004, EPA will publish a final conditional approval of New Jersey's SIP revision. EPA will consider all information submitted prior to any final rulemaking action as a supplement or amendment to the SIP submittal. If New Jersey does not make the required commitment to EPA, EPA is proposing, in the alternative, to disapprove the SIP revision.

EPA is requesting public comment on the issues discussed in today's action. EPA will consider all public comments before taking final action. Interested parties may participate in the Federal rulemaking procedure by submitting comments to the EPA Regional office listed in the ADDRESSES section.

Statutory and Executive Order Reviews

Under Executive Order 12866 (58 FR 51735, October 4, 1993), this proposed action is not a “significant regulatory action” and therefore is not subject to review by the Office of Management and Budget. For this reason, this action is also not subject to Executive Order 13211, “Actions Concerning Regulations That Significantly Affect Energy Supply, Distribution, or Use” (66 FR 28355, May 22, 2001). This proposed action merely proposes to approve State law as meeting Federal requirements and imposes no additional requirements beyond those imposed by State law. Accordingly, the Administrator certifies that this proposed rule will not have a significant economic impact on a substantial number of small entities under the Regulatory Flexibility Act (5 U.S.C. 601 et seq.). Because this rule proposes to approve pre-existing requirements under State law and does not impose any additional enforceable duty beyond that required by State law, it does not contain any unfunded mandate or significantly or uniquely affect small governments, as described in the Unfunded Mandates Reform Act of 1995 (Public Law 104-4).

This proposed rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have federalism implications because it does not have substantial direct effects on the States, on the relationship between the national government and the States, or on the distribution of power and responsibilities among the various levels of government, as specified in Executive Order 13132 (64 FR 43255, August 10, 1999). This action merely proposes to approve a state rule implementing a Federal standard, and does not alter the relationship or the distribution of power and responsibilities established in the Clean Air Act. This proposed rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This proposed rule does not impose an information collection burden under the provisions of the Paperwork Reduction Act of 1995 (44 U.S.C. 3501 et seq.).

List of Subjects in 40 CFR Part 52

Environmental protection, Air pollution control, Incorporation by reference, Nitrogen dioxide, Ozone, Reporting and recordkeeping requirements.

Authority: 42 U.S.C. 7401 et seq.

Dated: March 29, 2004.
Jane M. Kenny,
Regional Administrator, Region 2.

[FR Doc. 04-7863 Filed 4-6-04; 8:45 am]

BILLING CODE 6560-50-P